DEPARTMENT OF HEALTH AND HUMAN SERVICES

Indian Health Service

Request for Public Comment: 60-Day Information Collection: Application for Participation in the IHS Scholarship Program

AGENCY: Indian Health Service.

ACTION: Notice and request for comments. Request for extension of approval.

SUMMARY: In compliance the Paperwork Reduction Act of 1995, the Indian Health Service (IHS) invites the general public to comment on the information collection titled, “Application for Participation in the IHS Scholarship Program,” Office of Management and Budget (OMB) Control No. 0917-0006. IHS is requesting OMB to approve an extension for this collection, which expires on March 31, 2020.

DATES: Comment Due Date: February 18, 2020. Your comments regarding this information collection are best assured of having full effect if received within 60 days of the date of this publication.

ADDRESSES: Send your written comments, requests for more information on the collection, or requests to obtain a copy of the data collection instrument and instructions to Ms. Reta Brewer by one of the following methods:

• Mail: Reta Brewer, Branch Chief, Scholarship Programs, Division of Health Professions Support, Indian Health Service, 5600 Fishers Lane, Mail Stop: OHR 11E53A, Rockville, MD 20857.

• Phone: (301) 443-2349.

• Email: reta.brewer@ihs.gov.

• Fax: 301-443-6048.

SUPPLEMENTARY INFORMATION: This previously approved information collection project was last published in the Federal Register (81 FR 60368), on September 1, 2016 and allowed 30 days for public comment. No public comment was received in response to the notice. The purpose of this notice is to allow 60 days for public comment. A copy of the supporting statement is available at www.regulations.gov (see Docket ID IHS-2020-01).

Information Collection: Title: “Application for Participation in the IHS Scholarship Program,” OMB Control No. 0917-0006. Type of Information Collection Request: Extension of the currently approved information collection “Application for Participation in the IHS Scholarship Program,” OMB Control No. 0917-0006. Form Number(s): IHS-856-07 through 856-16, IHS-856-19 through 856-23, IHS-817, and IHS-818 are retained for use by the IHS Scholarship Program (IHSSP) as part of this current Information Collection Request. Reporting forms are found on the IHS website at www.ihs.gov/scholarship. Forms IHS-856-03, IHS-856-05, and IHS-856-06 have been moved to the online application process and can be found at www.ihs.gov/scholarship/applynow/. Need and Use of Information Collection: The IHS Scholarship Branch needs this information for program administration and uses the information to: Solicit, process, and award IHS Pre-graduate, Preparatory, and/or Health Professions Scholarship recipients; monitor the academic performance of recipients; and to place recipients at payback sites. The IHSSP application is electronically available on the internet at the IHS website at: http://www.ihs.gov/scholarship/applynow/.

Affected Public: Individuals, not-for-profit institutions and State, local or Tribal Governments. Type of Respondents: Students pursuing health care professions.

The table below provides: Types of data collection instruments, Estimated number of respondents, Number of responses per respondent, Annual number of responses, Average burden hour per response, and Total annual burden hours.

Data collection instrument(s) | Number of respondents | Responses per respondent | Total annual response | Burden hour per response * | Annual burden hours
Scholarship Online Application | 850 | 1 | 850 | 1.00 (60 min) | 850
Verification of Acceptance or Decline of Award (IHS-856-7) | 300 | 1 | 300 | 0.13 (8 min) | 39
Recipient's Initial Program Progress Report (IHS-856-8) | 800 | 1 | 800 | 0.13 (8 min) | 104
Notification of Academic Problem (IHS-856-9) | 20 | 1 | 20 | 0.13 (8 min) | 3
Change of Status (IHS-856-10) | 50 | 1 | 50 | .045 (25 min) | 21
Request for Approval of Deferment (IHS-856-11) | 60 | 1 | 60 | 0.13 (8 min) | 8
Preferred Placement (IHS-856-12) | 150 | 1 | 150 | 0.50 (30 min) | 75
Notice of Impending Graduation (IHS-856-13) | 170 | 1 | 170 | 0.17 (10 min) | 28
Notification of Deferment Program (IHS-856-14) | 60 | 1 | 60 | 0.13 (8 min) | 8
Placement Update (IHS-856-15) | 170 | 1 | 170 | 0.18 (11 min) | 31
Annual Status Report (IHS-856-16) | 200 | 1 | 200 | 0.25 (15 min) | 50
Lost Stipend Payment (IHS-856-19) | 10 | 1 | 10 | 0.13 (8 min) | 2
Summer School Request (IHS-856-21) | 100 | 1 | 100 | 0.10 (6 min) | 10
Change of Name or Address (IHS-856-22) | 20 | 1 | 20 | 0.13 (8 min) | 3
Request for Credit Validation (IHS-856-23) | 30 | 1 | 30 | 0.10 (6 min) | 3
Scholarship Program Agreement (IHS-817) | 60 | 1 | 60 | 0.16 (10 min) | 10
Health Professions Contract (IHS-818) | 225 | 1 | 225 | 0.16 (10 min) | 38
Total |  |  | 3,275 |  | 1,283
* For ease of understanding, burden hours are also provided in actual minutes.

There are no direct costs to respondents other than their time to voluntarily complete the forms and submit them for consideration. The estimated cost for the federal government is $145,223.00 (contractor) to work on the program with IHS program staff.

Requests for Comments: Your written comments and/or suggestions are invited on one or more of the following points:

(a) Whether the information collection activity is necessary to carry out an agency function;

(b) whether the agency processes the information collected in a useful and timely fashion;

(c) the accuracy of the public burden estimate (the estimated amount of time needed for individual respondents to provide the requested information);

(d) whether the methodology and assumptions used to determine the estimates are logical;

(e) ways to enhance the quality, utility, and clarity of the information being collected; and

(f) ways to minimize the public burden through the use of automated, electronic, mechanical, or other technological collection techniques or other forms of information technology.

Chris Buchanan,
Assistant Surgeon General, USPHS, Deputy Director, Indian Health Service.

[FR Doc. 2019-27121 Filed 12-16-19; 8:45 am]

BILLING CODE 4165-16-P